DEFENSE NUCLEAR FACILITIES SAFETY BOARD

Sunshine Act Notice; Correction

AGENCY: Defense Nuclear Facilities Safety Board.

ACTION: Notice; correction.

SUMMARY: The Defense Nuclear Facilities Safety Board (Board) published a document in the Federal Register on April 2, 2015, (80 FR 17735), concerning notice of a public meeting and hearing on April 29, 2015, regarding the underground recovery of the Waste Isolation Pilot Plant and safe resumption of waste operations. That notice stated that the Board would be setting aside time for three public comment periods: (1) At the conclusion of Sessions II; (2) at the conclusion of Session III; and (3) just prior to the Board beginning deliberations in Session IV. The Board wishes to correct that statement to indicate that opportunity for public comment is limited to just two comment periods: (1) At the conclusion of Session II; and (2) just prior to the Board's deliberations in Session IV.

FOR FURTHER INFORMATION CONTACT: Mark Welch, General Manager, Defense Nuclear Facilities Safety Board, 625 Indiana Avenue NW., Suite 700, Washington, DC 20004-2901, (800) 788-4016. This is a toll-free number.

Correction

In the Federal Register of April 2, 2015, in FR Doc. 2015-07648, on page 17736, under the “Supplementary Information” caption, first column, lines 62—68, correct the statement to read:

The Board is setting aside time at the end of Session II for presentations and comments from the public. The public will be given one final opportunity for comment before the Board begins deliberations in Session IV.

Dated: April 21, 2015.
Jessie H. Roberson,
Vice-Chairman.

[FR Doc. 2015-09706 Filed 4-22-15; 4:15 pm]

BILLING CODE 3670-01-P